DEPARTMENT OF THE TREASURY

Office of Thrift Supervision

[AC-27: OTS Nos. 02248 and 114552]

Midwest FS&LA of St. Joseph, St. Joseph, MO; Approval of Conversion Application

Notice is hereby given that on November 12, 2008, the Office of Thrift Supervision approved the application of Midwest FS&LA of St. Joseph, St. Joseph, Missouri, to convert to the stock form of organization. Copies of the application are available for inspection by appointment (phone number: (202) 906-5922 or e-mail: public.info@ots.treas.gov) at the Public Reading Room, 1700 G Street, NW., Washington, DC 20552, and the OTS Midwest Regional Office, 225 E. John Carpenter Freeway, Suite 500, Irving, Texas 75062-2326.

Dated: November 14, 2008.
By the Office of Thrift Supervision.
Sandra E. Evans,
Federal Register Liaison.

[FR Doc. E8-27648 Filed 11-21-08; 8:45 am]

BILLING CODE 6720-01-M